DEPARTMENT OF HEALTH AND HUMAN SERVICES

Administration for Children and Families

Proposed Information Collection Activity; Comment Request

Proposed Projects

Title: OCSE-75 Tribal Child Support Enforcement Program Annual Data Report.

OMB No.: New Collection.

Description: The data collected by form OCSE-75 are used to prepare the OCSE preliminary and annual data reports. In addition, Tribes administering CSE programs under Title IV-D of the Social Security Act are required to report program status and accomplishments and submit the OCSE-75 report annually.

Respondents: Tribal Child Support Enforcement Organizations or the Department/Agency/Bureau responsible for Child Support Enforcement in each Tribe.

Annual Burden Estimates:

Instrument | Number of respondents | Number of responses per respondent | Average burden hours per response | Total burden hours
OCSE-75 | 9 | 1 | 2.5 | 22.5

Estimated Total Annual Burden Hours: 22.5.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollectionrsargis@acf.hhs.gov. All requests should be sent to infocollection@acf.hhs.gov identifying the request by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 27, 2006.
Robert Sargis,
Reports Clearance Officer.

[FR Doc. 06-5979 Filed 7-3-06; 8:45 am]

BILLING CODE 4184-01-M